NUCLEAR REGULATORY COMMISSION

Advisory Committee on Nuclear Waste; Notice of Meeting

The Advisory Committee on Nuclear Waste (ACNW) will hold its 120th meeting on July 25-27, 2000, Room T-2B3, 11545 Rockville Pike, Rockville, Maryland.

The entire meeting will be open to public attendance.

The schedule for this meeting is as follows:

Tuesday, July 25, 2000—8:30 a.m. Until 5:30 p.m

A. 8:30 a.m.-10:30 a.m.: ACNW Planning and Procedures (Open)—The Committee will consider topics proposed for future consideration by the full Committee and Working Groups. The ACNW will discuss planned tours and ACNW-related activities of individual members.

B. 10:45 a.m.-12:15 p.m.: Revised High-Level Guidelines for Performance-Based Activities (Open)—The NRC staff will present their response to public comments on the Guidelines for Performance-Based Activities. The NRC staff will explain their approach to developing performance-based regulations consistent with Commission's Direction.

C. 1:15 p.m.-2:45 p.m.: Status of the NRC's Decommissioning Program (Open)—The Committee will hear a comprehensive overview of decommissioning activities, including the decommissioning of Site Decommissioning Management Plan (SDMP) sites, other complex decommissioning sites, and commercial reactor decommissioning. The NRC staff is expected to provide current schedules for the clean-up of all decommissioning sites.

D. 3:00 p.m.-5:30 p.m.: Preparation of ACNW Reports (Open)—The Committee will discuss planned reports on the following topics: Risk-Informed Approaches to Nuclear Materials Regulatory Applications, comments on the LLW NUREG report on Performance Assessment, Highlights of the ACNW visit to the U.K. and France, a response to comments on the ACNW Action Plan, and possible comments on issues discussed during this meeting.

Wednesday, July 26, 2000—8:30 a.m. Until 5:30 p.m.

E. 8:30 a.m.-10:30 a.m.: DOE's Performance Confirmation Program for the Proposed Repository at Yucca Mountain, Nevada (Open)—Representatives of the Department of Energy (DOE) will brief the Committee on details of their performance confirmation program. This program will monitor various aspects of the repository design in the preclosure phase of operation to ensure the repository is behaving as predicted.

F. 10:45 a.m.-12:15 p.m.: Summary of the NRC staff's Yucca Mountain Key Technical Issue Resolution Strategy (Open)—The NRC staff will update the Committee on the KII resolution strategy and the results of recent interactions with the DOE.

G. 1:15 p.m.-2:45 p.m.: Hydrogeology Research (Open)—The Committee will review a project by NRC's Office of Nuclear Regulatory Research on hydrogeologic model development and parameter uncertainty.

H. 3:00 p.m.-3:45 p.m.: Prepare for the Next Public Meeting With the Commission (Open)—The ACNW will begin preparations for the next public meeting with the Commission. The meeting is tentatively scheduled for October 17, 2000. Potential topics for discussion include: the development of a Yucca Mountain Review Plan and 10 CFR Part 63 Disposal of High-Level Radioactive Waste in a proposed geologic repository at Yucca Mountain, Nevada; high-lights of the Committee's recent European trip, Risk Informed Regulation in the Office of Nuclear Material Safety and Safeguards; and comments on the staff's Yucca Mountain Site Sufficiency Strategy.

I. Continue Preparation of ACNW Reports (Open)—The Committee will continue preparation of ACNW reports noted in item D.

Thursday, July 27, 2000—8:30 a.m. Until 3:00 p.m.

J. 8:30 a.m.-9:30 a.m.: Meeting With the Deputy Director of the Office of Nuclear Material Safety and Safeguards (Open)—The Committee will meet with the Deputy Director to discuss items of mutual interest.

K. 9:30 a.m.-2:00 p.m.: Complete ACNW Reports (Open)—Complete preparation of ACNW reports noted in item D.

L. 2:00 p.m.-3:00 p.m.: Miscellaneous (Open)—The Committee will discuss miscellaneous matters related to the conduct of the Committee and organizational activities and complete discussion of matters and specific issues that were not completed during previous meetings, as time and availability of information permit.

Procedures for the conduct of and participation in ACNW meetings were published in the Federal Register on September 28, 1999 (64 FR 52352). In accordance with these procedures, oral or written statements may be presented by members of the public, electronic recordings will be permitted only during those portions of the meeting that are open to the public, and questions may be asked only by members of the Committee, its consultants, and staff. Persons desiring to make oral statements should notify Richard K. Major, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Major as to their particular needs.

Further information regarding topics to be discussed, whether the meeting has been canceled or rescheduled, the Chairman's ruling on requests for the opportunity to present oral statements and the time allotted therefore can be obtained by contacting Mr. Richard K. Major, ACNW (Telephone 301/415-7366), between 8:00 A.M. and 5:00 P.M. EDT.

ACNW meeting notices, meeting transcripts, and letter reports are now available for downloading or reviewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

Dated: June 26, 2000.
Andrew L. Bates,
Advisory Committee Management Officer.

[FR Doc. 00-16650 Filed 6-29-00; 8:45 am]

BILLING CODE 7590-01-P